DEPARTMENT OF DEFENSE

Department of the Army; Corps of Engineers

Intent To Prepare a Draft Feasibility Report/Environmental Impact Statement/Environmental Impact Report for the Grayson and Murderer's Creeks Project, Contra Costa County, CA

AGENCY: Department of the Army, U.S. Army Corps of Engineers, DoD.

ACTION: Notice of intent.

SUMMARY: In accordance with the National Environmental Policy Act (NEPA) and the California Environmental Quality Act (CEQA), the U.S. Army Corps of Engineers (Corps), Sacramento District, is preparing a Draft Feasibility Report/Environmental Impact Statement/Environmental Impact Report (Feasibility Report/EIS/EIR) to evaluate the opportunities to reduce flood damages, restore wetland and riparian habitat, and support recreation adjacent to Grayson and Murderer's Creeks watershed, Contra Costa County, California. A reconnaissance study was funded under the Energy and Water Development Appropriations Bill of 2002. The Corps completed the resulting study in October 2002. The report found a Federal interest in reducing flood damages, restoring the ecosystem, and improving recreational opportunities in Contra Costa County. The basic study authority for the Walnut Creek watershed was provided under a House Resolution adopted on June 19, 1963.

The feasibility study will consist of two phases. Phase I will start with a public workshop designed to solicit input from the public and interested agencies on the nature and extent of issues to be addressed in the Draft Feasibility Report/EIS/EIR. It will conclude with a conference to present and discuss the detailed evaluation of existing and future conditions, including the comprehensive mapping of the flood plains, flood damages, and the identification of problems and opportunities associated with each watershed. Preliminary alternatives will be developed, evaluated, and screened. Important cultural and environmental resources in the study area along with the associated effects and mitigation requirements for each preliminary alternative will be considered during the evaluation. Federal interest in at least one preliminary alternative will be established.

Phase II will consist of further development of the preliminary alternatives including detailed designs, costs, and benefits. The project benefits associated with each final alternative plan will be evaluated. The Draft Feasibility Report/EIS/EIR will be completed in conjunction with additional public meetings. Upon the review and incorporation of the public feedback, the Final Feasibility Report/EIS/EIR will be published. The final report will be forwarded through the Corps' Headquarters to the Assistant Secretary of the Army (Civil Works) for transmission to the Office of Management and Budget.

DATES: A meeting is scheduled for Tuesday, November 18, 2003, at 7 p.m. at the Pleasant Hill Community Center, 320 Civic Drive, Pleasant Hill, California.

Comments: Submit comments regarding the study by January 10, 2004.

ADDRESSES: Send written comments and suggestions concerning this study to Ms. Melisa Helton, U.S. Army Corps of Engineers, Sacramento District, Attn: Planning Division (CESPK-PD-R), 1325 J Street, Sacramento, California 95814. Requests to be placed on the mailing list should also be sent to this address.

FOR FURTHER INFORMATION CONTACT: Ms. Melisa Helton, E-mail at melisa.n.helton@usace.army.mil, telephone (916) 557-7948, or fax (916) 557-5138.

SUPPLEMENTAL INFORMATION: 1. Public Involvement: The study will be coordinated between Federal, State, and local governments; local stakeholders; special interest groups; and any other interested individuals and organizations. The Corps will hold a public workshop/environmental scoping meeting to discuss the scope of the Draft Feasibility Report/EIS/EIR (see DATES). The meeting will be advertised in advance in local newspapers, and meeting announcement letters will be sent to interested parties. The purpose of this meeting is to involve local stakeholders and the public early in the study process. The meeting will focus on collecting public input regarding the study scope, historic and current problems, and potential opportunities. All public comments will be documented for future consideration and reference. Written comments regarding the meeting may also be submitted via mail and should be directed to Ms. Melisa Helton at the address listed above. The Corps intends to issue the Draft Feasibility Report/EIS/EIR in the summer of 2006. The Corps will announce availability of the draft document in the Federal Register and other media, and will provide the public, organizations, and agencies with an opportunity to submit comments, which will be addressed in the Final Feasibility Report/EIS/EIR.

2. Project Information: Grayson and Murderer's Creeks are located 4 miles northwest of Walnut Creek in Pleasant Hill, Contra Costa County. The study area is located 15 miles northeast of Berkeley, 20 miles east of San Francisco. It is located in the upper Walnut Creek Basin and is composed of approximately 180 square miles, including the cities of Walnut Creek, Pleasant Hill, and Concord in Contra Costa County.

Flooding in the 1950's and 1960's spurred Contra Costa County to initiate additional flood control studies with the Corps of Engineers on Grayson and Murderer's Creeks. In both a 1973 and a 1992 Feasibility Report, no Federal interest was found due to insufficient economic benefits. As a result of flooding during the 1990's, local municipalities renewed efforts to resolve these flooding problems. The 1997 flood, an estimated 18-year event, caused damage to about 100 homes in the City of Pleasant Hill. In addition, the Federal Emergency Management Agency (FEMA) is currently revising the floodplain maps to include 700 homes within the 100-year floodplain.

3. Proposed Action: The proposed project would reduce flood damages, restore the ecosystem along the channels, and improve recreational opportunities adjacent to the creeks. Numerous plans have already been studied by Contra Costa County and the City of Pleasant Hill. The primary focus of these studies has been to reduce damages from significant flood events. These reductions would minimize the number of homes required to participate in the Federal Emergency Management Agency (FEMA) Flood Insurance Program.

4. Alternatives. Potential alternatives to reduce flood damages include: (1) No action; (2) a single flood detention basin at Grayson branch with inlet and outlet control and no channel improvements; (3) multiple flood detention basins at Grayson and Murderer's branch with inlet and outlet control and no channel improvements; (4) multiple flood detention basins at Grayson branch and Murderer's branch except that the flood detention basin at Grayson branch is in a different location that occupies a larger area and no channel improvements; and (4) a smaller flood detention basin with inlet and outlet control with channel improvements.

Luz D. Ortiz,
Army Federal Register Liaison Officer.

[FR Doc. 03-28321 Filed 11-12-03; 8:45 am]

BILLING CODE 3710-EZ-M